DEPARTMENT OF THE INTERIOR

Bureau of Land Management

[CO-600-01-1220-AL-1784]

Southwest Resource Advisory Council Meeting

AGENCY: Bureau of Land Management, Interior.

ACTION: Notice; Southwest Resource Advisory Council meeting.

SUMMARY: Notice is hereby given that the Southwest Resource Advisory Council (Southwest RAC) will meet in November 2000 in Montrose, Colorado.

DATES: The meeting will be held on Thursday, November 9, 2000.

ADDRESSES: For additional information, contact Roger Alexander, Bureau of Land Management, 2465 South Townsend Avenue, Montrose, Colorado 81401; phone 970-240-5335; TDD 970-240-5366; e-mail roger_alexander@co.blm.gov.

SUPPLEMENTARY INFORMATION: The November 9, 2000 meeting will be held at the Bureau of Land Management—North Building Conference Room, 2465 South Townsend, Montrose, Colorado. The meeting will begin at 9:00 a.m. and end at approximately 4:30 p.m. The agenda will include presentations on BLM's fire management program and the Uncompahgre Plateau Habitat Project, and BLM business updates (recreation guidelines, BLM organizational changes in western Colorado, etc.). General public comment is scheduled for 9:15 a.m.

Summary minutes for Council meetings are maintained in BLM's North Building in Montrose and on the World Wide Web at www.co.blm.gov/swrac/swrac.htm and are available for public inspection and reproduction within thirty (30) days following each meeting.

Dated: October 16, 2000.
Roger Alexander,
Public Affairs Specialist.

[FR Doc. 00-27051 Filed 10-19-00; 8:45 am]

BILLING CODE 4310-JB-P